DEPARTMENT OF THE TREASURY

United States Mint

Notification of Pricing for the 2009 United States Mint Presidential $1 Coin and First Spouse Medal Sets ™

ACTION: Notice.

SUMMARY: The United States Mint is announcing the price for the 2009 Presidential $1 Coin and First Spouse Medal Sets.

2009 Presidential $1 Coin and First Spouse Medal Sets will be priced at $8.95 each. This year, the United States Mint is releasing five Presidential $1 Coin and First Spouse Medal Sets featuring the following Presidents and First Spouses: William Henry Harrison and Anna Harrison; John Tyler and Letitia Tyler; John Tyler and Julia Tyler; James K. Polk and Sarah Polk; and Zachary Taylor and Margaret Taylor.

The first set in the 2009 series, the William Henry Harrison Presidential $1 Coin and First Spouse Set, will be available for sale in the spring of 2009.

FOR FURTHER INFORMATION CONTACT: B. B. Craig, Associate Director for Sales and Marketing; United States Mint; 801 9th Street, NW., Washington, DC 20220; or call 202-354-7500.

Authority: 31 U.S.C. 5111, 5112 & 9701.

Dated: March 31, 2009.
Andrew Brunhart,
Deputy Director, United States Mint.

[FR Doc. E9-7511 Filed 4-2-09; 8:45 am]

BILLING CODE 4810-02-P